ENVIRONMENTAL PROTECTION AGENCY

[EPA-HQ-OPP-2010-1070; FRL-8859-8]

Pesticides; Availability of Pesticide Registration Notice Regarding the Residential Exposure Joint Venture

AGENCY: Environmental Protection Agency (EPA).

ACTION: Notice.

SUMMARY: The Agency is announcing the availability of a Pesticide Registration Notice (PR Notice) regarding the data development efforts of the Residential Exposure Joint Venture, L.L.C. This PR Notice (PR Notice 2011-1) issued by the Agency on December 23, 2010. PR Notices are issued by the Office of Pesticide Programs (OPP) to inform pesticide registrants and other interested persons about important policies, procedures, and registration related decisions, and serve to provide guidance to pesticide registrants and OPP personnel. This particular PR Notice provides information concerning the formation of an industry task force for the development of data supporting pesticide registration, in which registrants may wish to participate.

FOR FURTHER INFORMATION CONTACT: Richard P. Dumas, Pesticide Re-evaluation Division, Office of Pesticide Programs, Environmental Protection Agency, 1200 Pennsylvania Ave., NW., Washington, DC 20460-0001; telephone number: (703) 308-8015; fax number: (703) 308-8005; e-mail address: dumasp.richard@epa.gov.

SUPPLEMENTARY INFORMATION:

I. General Information

A. Does this action apply to me?

You may be potentially affected by this notice if you register pesticide products intended for residential uses under the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-1070. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What action is the agency taking?

The Agency is announcing the issuance of a Pesticide Registration Notice (PR-2011-1) that addresses the data development efforts of the Residential Exposure Joint Venture (REJV). When registering or periodically reviewing an existing registration, the Agency evaluates the potential risks to people from exposure to the pesticide in and around the home. The REJV was formed to develop information on the actual use patterns of residential pesticides that can be used by EPA, and other regulatory agencies responsible for assuring the safety of pesticides. The purpose of the PR Notice is to describe what data the REJV plans to generate, to describe how EPA expects to use the data, and to inform registrants of the opportunity to join REJV.

B. What is the agency'sauthority for taking this action?

The PR Notice discussed in this notice is intended to provide information to EPA personnel and decision makers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

List of Subjects

Environmental protection, Administrative practice and procedure, Residential pesticide use, Pesticides and pests.

Dated: December 27, 2010.
Richard P. Keigwin, Jr.,
Director, Pesticide Re-evaluation Division, Office of Pesticide Programs.

[FR Doc. 2010-33198 Filed 1-4-11; 8:45 am]

BILLING CODE 6560-50-P